DEPARTMENT OF DEFENSE

Office of the Secretary

[Transmittal No. 20-31]

Arms Sales Notification

Correction

In notice document 2020-18786, beginning on page 52567, in the issue of Wednesday, August 26, 2020 the incorrect graphic was inadvertently published in error. The correct graphic for Transmittal No. 20-31 is corrected to appear as set forth below.

[FR Doc. C1-2020-18786 Filed 9-29-20; 8:45 am]

BILLING CODE 1301-00-D